DEPARTMENT OF TRANSPORTATION

National Highway Traffic Safety Administration

[Docket No. NHTSA-2019-0041; Notice 2]

FCA US LLC, Denial of Petition for Decision of Inconsequential Noncompliance

AGENCY: National Highway Traffic Safety Administration (NHTSA), Department of Transportation (DOT).

ACTION: Denial of petition.

SUMMARY: FCA US LLC (f/k/a Chrysler Group LLC) (FCA), has determined that certain MY 2014-2019 Fiat 500 motor vehicles do not comply with Federal Motor Vehicle Safety Standard (FMVSS) No. 138, Tire Pressure Monitoring Systems. FCA filed a noncompliance report dated April 11, 2019, and subsequently petitioned NHTSA on May 3, 2019, for a decision that the subject noncompliance is inconsequential as it relates to motor vehicle safety. This document announces and explains the denial of FCA's petition.

FOR FURTHER INFORMATION CONTACT: Kamna Ralhan, Office of Vehicle Safety Compliance, NHTSA, (202) 366-7236.

SUPPLEMENTARY INFORMATION:

I. Overview

FCA has determined that certain MY 2014-2019 Fiat 500 motor vehicles do not comply with paragraph S4.2(a) of FMVSS No. 138, Tire Pressure Monitoring Systems (49 CFR 571.138). FCA filed a noncompliance report dated April 11, 2019, pursuant to 49 CFR 573, Defect and Noncompliance Responsibility and Reports, and subsequently petitioned NHTSA on May 3, 2019, for an exemption from the notification and remedy requirements of 49 U.S.C. Chapter 301 on the basis that this noncompliance is inconsequential as it relates to motor vehicle safety, pursuant to 40 U.S.C. 30118 and 49 U.S.C. 30120, Exemption for Inconsequential Defect or Noncompliance.

Notice of receipt of FCA's petition was published with a 30-day public comment period, on September 12, 2019, in the Federal Register (84 FR 48208). No comments were received. To view the petition and all supporting documents log onto the Federal Docket Management System (FDMS) website at https://www.regulations.gov/. Then follow the online search instructions to locate docket number “NHTSA-2019-0041.”

II. Vehicles Involved

Approximately 12,675 MY 2014-2019 Fiat 500 motor vehicles, manufactured between July 27, 2013, and February 9, 2019, are potentially involved.

III. Noncompliance

FCA explains that the noncompliance is that the subject vehicles are equipped with incorrectly programmed tire pressure monitor system (TPMS) sensors that do not meet the minimum activation pressure requirements of paragraph S4.2(a) of FMVSS No. 138. Specifically, the TPMS sensors may not illuminate the low tire pressure warning telltale until the inflation pressure is one to two pounds per square inch (PSI) below the minimum allowable activation pressure.

IV. Rule Requirements

Paragraph S4.2(a) of FMVSS No. 138 provides the requirements relevant to this petition. The TPMS must illuminate a low tire pressure warning telltale not more than 20 minutes after the inflation pressure in one or more of the vehicle's tires, up to a total of four tires, is equal to or less than either the pressure 25 percent below the vehicle manufacturer's recommended cold inflation pressure, or the pressure specified in the 3rd column of Table 1 of FMVSS No. 138 for the corresponding sort of tire, whichever is higher.

V. Summary of FCA's Petition

The following views and arguments presented in this section, “V. Summary of FCA's petition,” are the views and arguments provided by FCA and do not reflect the views of the Agency. FCA describes the subject noncompliance and contends that the noncompliance is inconsequential as it relates to motor vehicle safety.

FCA states that the subject vehicles comply with FMVSS No. 110 which requires that the vehicle maximum load on the tire not be greater than the applicable maximum load rating as marked on the sidewall of the tire. In addition, FCA states that the vehicles are equipped with tires that meet FMVSS No. 139 requirements which include performance testing for low tire inflation pressure. In accordance with this performance testing, a tire is loaded to its maximum tire load capacity and is then inflated to 140 kPa, (20 PSI). While inflated to 20 PSI, the tire is loaded to 100 percent of the tire's maximum load carrying capacity and run on a test axle for 1.5 hours.

FCA explains that the subject vehicles are noncompliant because the low tire pressure warning telltale illuminates when the pressure decreases to 28-27 PSI but is required to illuminate when the pressure decreases to 28.5 PSI. FCA states that 28-27 PSI is more than the 20 PSI required in FMVSS No. 139 testing. Therefore, according to FCA, a driver of the subject vehicle would have “sufficient time to check and inflate tires well before the tires would be susceptible to appreciable damage.”

FCA adds that it is not aware of any crashes, injuries, or customer complaints associated with the condition. FCA says that NHTSA has granted a prior inconsequentiality petition that involved a similar noncompliance. Finally, FCA notes that the subject noncompliance is being corrected in the affected vehicles that have not yet been sold.

FCA concludes by stating its belief that the subject noncompliance is inconsequential as it relates to motor vehicle safety and that its petition to be exempted from providing notification of the noncompliance, as required by 49 U.S.C. 30118, and a remedy for the noncompliance, as required by 49 U.S.C. 30120, should be granted.

FCA's complete petition and all supporting documents are available by logging onto the Federal Docket Management System (FDMS) website at https://www.regulations.gov/. and following the online search instructions to locate the docket number listed in the title of this notice.

VI. NHTSA's Analysis

The burden of establishing the inconsequentiality of a failure to comply with a performance requirement in an FMVSS is substantial and difficult to meet. Accordingly, the Agency has not found many such noncompliances inconsequential.¹

¹ Cf. Gen. Motors Corporation; Ruling on Petition for Determination of Inconsequential Noncompliance, 69 FR 19897, 19899 (Apr. 14, 2004) (citing prior cases where noncompliance was expected to be imperceptible, or nearly so, to vehicle occupants or approaching drivers).

In determining inconsequentiality of a noncompliance, NHTSA focuses on the safety risk to individuals who experience the type of event against which a recall would otherwise protect.² In general, NHTSA does not consider the absence of complaints or injuries when determining if a noncompliance is inconsequential to safety. The absence of complaints does not mean vehicle occupants have not experienced a safety issue, nor does it mean that there will not be safety issues in the future.³ Further, because each inconsequential noncompliance petition must be evaluated on its own facts and determinations are highly fact-dependent, NHTSA does not consider prior determinations as binding precedent. Petitioners are reminded that they have the burden of persuading NHTSA that the noncompliance is inconsequential to safety. Moreover, while we believe that consistency is a laudable goal, safety remains the paramount concern and the agency's view of the weight of different factors may change.

² See Gen. Motors, LLC; Grant of Petition for Decision of Inconsequential Noncompliance, 78 FR 35355 (June 12, 2013) (finding noncompliance had no effect on occupant safety because it had no effect on the proper operation of the occupant classification system and the correct deployment of an air bag); Osram Sylvania Prods. Inc.; Grant of Petition for Decision of Inconsequential Noncompliance, 78 FR 46000 (July 30, 2013) (finding occupant using noncompliant light source would not be exposed to significantly greater risk than occupant using similar compliant light source).

³ See Morgan 3 Wheeler Limited; Denial of Petition for Decision of Inconsequential Noncompliance, 81 FR 21663, 21666 (Apr. 12, 2016); see also United States v. Gen. Motors Corp., 565 F.2d 754, 759 (D.C. Cir. 1977) (finding defect poses an unreasonable risk when it “results in hazards as potentially dangerous as sudden engine fire, and where there is no dispute that at least some such hazards, in this case fires, can definitely be expected to occur in the future”).

NHTSA has evaluated the merits of FCA's petition and has decided to deny the petition. FCA explains that the noncompliance is that the subject vehicles' TPMS may not illuminate the warning telltale as required by FMVSS No. 138 paragraph S4.2(a) until the inflation pressure is one to two psi below the minimum activation pressure requirement. In support of its petition, FCA cited a previously submitted inconsequential noncompliance petition submitted by the American Honda Motor Company (77 FR 43145, July 23, 2012). In the case of the American Honda Motor Company petition, the TPMS warning similarly did not activate until approximately 1 to 2 psi below FMVSS No. 138's required threshold of activation at 25% below the manufacturer's recommended cold inflation tire pressure.

NHTSA granted Honda's petition based on the fact that even at the lower TPMS threshold, adequate load capacity remained for the tires on the subject vehicles. The subject vehicles were equipped at the dealership with the manufacturer's accessory tires (215/40RZ18 85Y) and wheels without adjusting the TPMS inflation warning threshold at the correct pressure to accommodate these tires. The TPMS warning threshold remained set to the standard equipped tires (215/45RZ17 84W) for the subject vehicles at a pressure of not less than 175 kPa (25 PSI). The recommended tire inflation pressure of the standard tires was 230 kPa (33 PSI) which would require, in accordance with S4.2(a), the minimum allowable TPMS activation threshold to be set at 190 kPa (27 PSI). The minimum allowable TPMS threshold for the 18-inch accessory wheels should have been 190 kPa (27 PSI), based on the recommended pressure of 250 kPa (36 PSI) as indicated on the replacement tire pressure placard.

NHTSA concluded that, as relates to FMVSS No. 110, the optional 18-inch diameter tires had adequate load carrying capacity for the gross axle weight ratings (GAWR) assigned to any of the subject vehicles equipped with the dealer-installed tires. The load carrying capacity of the of the accessory tires was 500 kilograms (1,100 lbs) at 230 kPa (33 PSI)) while the GAWR for each front tire was 477 kilograms (1,050 lbs) and each rear tire was 425 kilograms (938 lbs). The accessory tires were also found to have a higher load carrying capacity than the standard tires at 180 kPa (26 PSI) which was 435 kilograms (959 lbs) compared to 425 kilograms (937 lbs) for the standard tires.

In comparison, NHTSA disagrees that the lower TPMS activation pressure of the FCA subject vehicles will provide comparable safety protection given that the reduced pressure lowers the load carrying capacity of the same standard equipped tires. According to the Japan Automobile Tyre Manufacturers Association (JATMA) method, as recognized by NHTSA in FMVSS No. 110, the load carrying capacity of the standard tires of the 2014-2019 Fiat 500 (195/45R16 80W) at 195kPa (28.3 PSI) would be appropriately 400 lbs. compared to 388 lbs. at 186kPa (27 PSI). This represents a reduction of 3-percent in the load carrying capacity of the tires.

The agency has reconsidered the purpose and requirements of FMVSS Nos 110, 138 and 139 as it relates to inconsequentiality to safety. FMVSS No. 139 assesses the performance of a tire under severe conditions for a short period of time. While in comparison, FMVSS No. 138's stated purpose is: “This standard specifies performance requirements for tire pressure monitoring systems (TPMSs) to warn drivers of significant under-inflation of tires and the resulting safety problems.” Although FMVSS No. 139 establishes minimum performance requirements for tires and addresses tire failures that may occur in the course of the specified test, the conditions present in that testing are necessarily narrower than those that may be present in long term consumer use. Further, as a vehicle standard, FMVSS No. 138 dictates that the vehicle present a warning to drivers when the degree of under-inflation present is severe enough lead to other unsafe operating conditions such as a loss of vehicle maneuverability and increased tread wear leading to the possibility of crashes. Decreased tire pressure causes the sidewalls of the tire to flex more especially while turning causing reduced steering response timing and significantly impacts the vehicle's maneuverability during cornering. Tire sidewalls contacting the road can also lead to premature and uneven tire tread wear and possible damage to the tire. Lower tire pressure can also increase braking stopping distances and increases the likelihood of hydroplaning while driving in wet conditions as well as increased tire tread wear which can lead to more frequent tire maintenance, repairs, and replacements.

NHTSA's Decision

In consideration of the foregoing, NHTSA has decided that FCA has not met its burden of persuasion that the subject FMVSS No. 138 noncompliance is inconsequential to motor vehicle safety. Accordingly, FCA's petition is hereby denied and FCA is consequently obligated to provide notification of and free remedy for that noncompliance under 49 U.S.C. 30118 and 30120.

(Authority: 49 U.S.C. 30118, 30120: delegations of authority at 49 CFR 1.95 and 501.8)

Eileen Sullivan,
Associate Administrator for Enforcement.

[FR Doc. 2024-13337 Filed 6-17-24; 8:45 am]

BILLING CODE 4910-59-P